DEPARTMENT OF THE INTERIOR

Bureau of Land Management

43 CFR Part 3100

[A2407-014-004-065516, #O2509-014-004-125222]

RIN 1004-AF52

Federal Onshore Oil and Gas Statewide Bonds; Extension of Phase-In Deadline

AGENCY: Bureau of Land Management, Interior.

ACTION: Direct final rule; request for comments.

SUMMARY: The Bureau of Land Management (BLM, we) is issuing this direct final rule (DFR) to amend BLM regulations to extend the phase-in date for compliance with the minimum bond amount for Statewide oil and gas bonds. The current regulation requires operators to increase or replace existing Statewide bonds to meet the $500,000 minimum bond amount by June 22, 2026. This rule extends that deadline to June 22, 2027, aligning it with the phase-in date for individual lease bonds.

DATES: The final rule is effective on February 17, 2026, unless significant adverse comments are received by January 20, 2026. If significant adverse comments are received, notice will be published in the Federal Register before the effective date either withdrawing the rule or issuing a new final rule that responds to any significant adverse comments.

ADDRESSES: You may submit comments by one of the following methods:

• Federal eRulemaking Portal: https://www.regulations.gov. In the Search box, enter the Docket Number “BLM-2025-0269” and click the “Search” button. Follow the instructions at this website.

• Mail, personal, or messenger delivery: U.S. Department of the Interior, Director (630), Bureau of Land Management, 1849 C St. NW, Room 5646, Washington, DC 20240, Attention: 1004-AF52.

FOR FURTHER INFORMATION CONTACT: Peter Cowan, Senior Minerals Leasing Specialist, email: picowan@blm.gov; telephone: 720-838-1641. Individuals in the United States who are deaf, deafblind, hard of hearing, or have a speech disability may dial 711 (TTY, TDD, or TeleBraille) to access telecommunications relay services. Individuals outside the United States should use the relay services offered within their country to make international calls to the point-of-contact in the United States.

For a summary of the final rule, please see the abstract description of the document in Docket Number BLM-2025-0269 on www.regulations.gov.

SUPPLEMENTARY INFORMATION: Oil and gas leasing on Federal lands managed by the BLM is governed by the Mineral Leasing Act of 1920 (MLA), 30 U.S.C. 181 et seq., and other pertinent statutes. The BLM published a final rule on April 23, 2024 (89 FR 30916) that, among other topics, updated bonding requirements for Federal onshore oil and gas operations, including increases to the minimum bond amounts and phase-in deadlines for when operators must update their existing bonds. Under 43 CFR 3104.1(c)(1), operators must bring existing Statewide bonds into compliance with the increased bond amount by June 22, 2026. This DFR will extend the deadline to comply with the existing Statewide bond requirement from June 22, 2026, to June 22, 2027. That is the same deadline for individual lease bonds in 43 CFR 3104.1(c)(2).

The BLM seeks to delay this requirement as we are pursuing a separate but related rulemaking in the coming months, which could significantly change the timeline for this requirement. This delay will provide operators with relief while the BLM pursues this change.

This rule is consistent with broader energy policy goals, as reflected in Executive Order (E.O.) 14154, “Unleashing American Energy” (90 FR 8353, Jan. 20, 2025), and E.O. 14156, “Declaring a National Energy Emergency” (90 FR 8433, Jan. 20, 2025), which emphasize:

• Reducing regulatory burdens on domestic energy producers;

• Promoting energy independence through expanded access to Federal lands;

• Streamlining compliance timelines to avoid unnecessary disruptions to operations; and

• Encouraging capital investment in exploration and production by minimizing near-term financial strain.

Extending the Statewide bond phase-in deadline aligns with these priorities by providing operators with additional time to secure financing or to restructure bonding instruments. It also ensures parity between Statewide and lease-level bonding compliance, simplifying implementation and reducing confusion.

This action reflects the Department of the Interior's commitment to regulatory certainty, economic growth, and responsible resource development. It does not alter the minimum bond amounts.

Procedural Matters

Executive Order (E.O.) 12866—Regulatory Planning and Review and E.O. 13563—Improving Regulation and Regulatory Review

E.O. 12866 provides that the Office of Information and Regulatory Affairs (OIRA) in the Office of Management and Budget (OMB) will review all significant rules. OIRA has determined that this rule is not significant.

E.O. 13563 reaffirms the principles of E.O. 12866, while calling for improvements in the Nation's regulatory system to promote predictability, reduce uncertainty, and use the best, most innovative, and least burdensome tools for achieving regulatory ends. E.O. 13563 directs agencies to consider regulatory approaches that reduce burdens and maintain flexibility and freedom of choice for the public where these approaches are relevant, feasible, and consistent with regulatory objectives. E.O. 13563 emphasizes further that agencies must base regulations on the best available science and that the rulemaking process must allow for public participation and an open exchange of ideas. The Department developed this rule in a manner consistent with these requirements.

Regulatory Flexibility Act

The Regulatory Flexibility Act (RFA, 5 U.S.C. 601 through 612) requires an agency to prepare a regulatory flexibility analysis for all rules unless the agency certifies that the rule will not have a significant economic impact on a substantial number of small entities. The RFA applies only to rules for which an agency is required to first publish a proposed rule. See 5 U.S.C. 603(a) and 604(a). As the Department is not required to publish a notice of proposed rulemaking for this DFR, the RFA does not apply.

Congressional Review Act

This rule is not a major rule under the Congressional Review Act, 5 U.S.C. 804(2). Specifically, the DFR: (a) will not have an annual effect on the economy of $100 million or more; (b) will not cause a major increase in costs or prices for consumers, individual industries, Federal, State, or local government agencies, or geographic regions; and (c) will not have significant adverse effects on competition, employment, investment, productivity, innovation, or on the ability of U.S.-based enterprises to compete with foreign-based enterprises in domestic and export markets.

Unfunded Mandates Reform Act

This rule does not impose an unfunded mandate on State, local, or Tribal governments, or the private sector, of more than $100 million per year. The rule does not have a significant or unique effect on State, local, or Tribal governments, or the private sector. The rule merely extends the deadline for complying with the increased Statewide bond requirement. Therefore, a statement containing the information required by the Unfunded Mandates Reform Act (2 U.S.C. 1531 et seq.) is not required.

E.O. 12630—Governmental Actions and Interference With Constitutionally Protected Property Rights

This rule does not result in a taking of private property or otherwise have regulatory takings implications under E.O. 12630. The rule merely extends an existing phase-in period. The rule will not result in private property being taken for public use without just compensation because this rule only extends the compliance deadline for an existing Statewide bond requirement. A takings implication assessment is therefore not required.

E.O. 13132—Federalism

Under the criteria of section 1 of E.O. 13132, this rule does not have sufficient federalism implications to warrant the preparation of a federalism summary impact statement. This rule will not have substantial direct effects on the States, on the relationship between the national government and the States, or on the distribution of power and responsibilities among the various levels of government. A federalism summary impact statement is not required.

E.O. 12988—Civil Justice Reform

This DFR complies with the requirements of E.O. 12988. Among other things, this rule:

(a) Meets the criteria of section 3(a) requiring that all regulations be reviewed to eliminate errors and ambiguity and be written to minimize litigation;

(b) Meets the criteria of section 3(b)(2) requiring that all regulations be written in clear language and contain clear legal standards.

E.O. 13175—Consultation and Coordination With Indian Tribal Governments

The Department of the Interior strives to strengthen its government-to-government relationship with Indian Tribes through a commitment to consultation with Tribes and recognition of their right to Tribal self-governance and sovereignty. The Department evaluated this DFR under E.O. 13175 and the Department's consultation policies. The Department determined that this DFR has no substantial, direct effects on federally recognized Indian Tribes and that consultation under the Department's Tribal consultation policies is not required. The rule merely revises the Federal regulations to extend the phase-in date for Federal onshore Statewide bond amounts.

Paperwork Reduction Act

This rule does not impose any new information collection burdens under the Paperwork Reduction Act. OMB previously approved the information collection activities contained in the existing regulations and assigned OMB control number 1004-0185. This rule does not impose an information collection burden because the Department is not making any changes to the information collection requirements.

National Environmental Policy Act

This DFR does not constitute a major Federal action significantly affecting the quality of the human environment. A detailed statement under the National Environmental Policy Act (NEPA, 42 U.S.C. 4321 et seq.) is not required because this rule is covered by a categorical exclusion applicable to regulatory functions “that are of an administrative, financial, legal, technical, or procedural nature.” 43 CFR 46.210(i). In addition, the Department has determined that this rule does not involve any of the extraordinary circumstances listed in 43 CFR 46.215 that would require further analysis under NEPA.

E.O. 13211—Actions Concerning Regulations That Significantly Affect Energy Supply, Distribution, or Use

This DFR is not a significant energy action as defined in E.O. 13211. Therefore, a statement of energy effects is not required.

List of Subjects in 43 CFR Part 3100

Government contracts, Government employees, Mineral royalties, Oil and gas exploration, Oil and gas reserves, Public lands—mineral resources, Reporting and recordkeeping requirements, Surety bonds.

Leslie Beyer,
Assistant Secretary, Land and Minerals Management.

For the reasons stated in the preamble, the Bureau of Land Management amends 43 CFR part 3100 as follows:

PART 3100—OIL AND GAS LEASING

1. The authority citation for part 3100 continues to read as follows:

Authority: 25 U.S.C. 396d and 2107; 30 U.S.C. 189, 306, 359, and 1751; 43 U.S.C. 1701 et seq.; and 42 U.S.C. 15801.

2. Revise § 3104.1(c) to read as follows:

§ 3104.1 Bond amounts.

* * * * *

(c) Principals must increase or replace all bonds not meeting the appropriate minimum bond amount in paragraph (a) of this section by:

(1) June 22, 2027, for Statewide; and

(2) June 22, 2027, for lease bonds.

* * * * *

[FR Doc. 2025-23228 Filed 12-17-25; 8:45 am]

BILLING CODE 4331-29-P